DEPARTMENT OF DEFENSE

Office of the Secretary

Meeting of the Military Leadership Diversity Commission (MLDC)

AGENCY: Under Secretary of Defense for Personnel and Readiness, DoD.

ACTION: Notice of Federal Advisory Committee Meeting.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting of the Military Leadership Diversity Commission (MLDC) will take place:

DATES: December 2, 2010, from 8 a.m. to 4:30 p.m. and December 3, 2010, from 8 a.m. to 5:15 p.m.

ADDRESSES: December 2-3, 2010—Radisson Plaza Lord Baltimore, 20 West Baltimore Street, Baltimore, MD 21201.

FOR FURTHER INFORMATION CONTACT: Master Chief Steven A. Hady, Designated Federal Officer, MLDC, at (703) 602-0838, 1851 South Bell Street, Suite 532, Arlington, VA. E-mail: steven.Hady@wso.whs.mil.

SUPPLEMENTARY INFORMATION: Purpose of the Meeting: The purpose of the meeting is for the commissioners of the Military Leadership Diversity Commission to continue their efforts to address congressional concerns as outlined in the commission charter.

Agenda

December 2, 2010

8 a.m.-12:30 p.m.

DFO opens the meeting.

Commission Chairman opening remarks.

General Lyles discusses work of leadership subcommittee.

Deliberation of implementation and accountability recommendations.

Deliberation of National Guard and Reserve recommendations.

12:30 p.m. DFO recesses the meeting.

1:30 p.m.-4:30 p.m.

DFO opens the meeting.

Deliberation of “Rooney-like” rule regarding flag officer promotions.

Deliberation of Combat exclusion policy.

Public Comments.

DFO adjourns the meeting.

December 3, 2010

8 a.m.-12:45 p.m.

DFO opens the meeting.

Commission Chairman opening remarks.

General Lyles discusses work of editorial subcommittee.

Review of editorial subcommittee work.

Presentation of collapsed recommendation list—Part I.

Deliberation of collapsed recommendation list—Part I.

12:45 p.m. DFO recesses the meeting.

1:45 p.m.-5:15 p.m.

DFO opens meeting.

Presentation of collapsed recommendation list—Part II.

Deliberation of collapsed recommendation list—Part II.

Public comments.

Commission Chairman closing remarks.

DFO adjourns the meeting.

Public's Accessibility to the Meeting: Pursuant to 5 U.S.C. 552b and 41 CFR 102-3.140 through 102-3.165, and the availability of space, the meetings on December 2 through 3, 2010 will be open to the public. Please note that the availability of seating is on a first-come basis.

Committee's Designated Federal Officer or Point of Contact: Master Chief Steven A. Hady, Designated Federal Officer, MLDC, at (703) 602-0838 or (571) 882-0140, 1851 South Bell Street, Suite 532, Arlington, VA. E-mail: steven.Hady@wso.whs.mil.

Written Statements: Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for its consideration. Contact information for the Designated Federal Officer can be obtained from the GSA's FACA Database— https://www.fido.gov/facadatabase/public.asp.

Statements being submitted in response to the agenda mentioned in this notice must be received by the Designated Federal Officer at the address listed above at least five calendar days prior to the meeting that is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: November 2, 2010.
Morgan F. Park,
Alternate OSD Federal Register Liaison Officer, Department of Defense.

[FR Doc. 2010-28641 Filed 11-12-10; 8:45 am]

BILLING CODE 5001-06-P